DEPARTMENT OF ENERGY

Federal Energy Regulatory Commission

[Project No. 2535-129]

Dominion Energy South Carolina, Inc.; Notice Soliciting Scoping Comments

Take notice that the following hydroelectric application has been filed with the Commission and is available for public inspection.

a. Type of Application: New License.

b. Project No.: 2535-129.

c. Date Filed: October 27, 2023.

d. Applicant: Dominion Energy South Carolina, Inc.

e. Name of Project: Stevens Creek Hydroelectric Project.

f. Location: The project is located at the confluence of Stevens Creek and the Savannah River, in Edgefield and McCormick Counties, South Carolina, and Columbia County, Georgia. The project occupies approximately 104 acres of Federal land administered by the U.S. Forest Service.

g. Filed Pursuant to: Federal Power Act 16 U.S.C. 791(a)-825(r).

h. Applicant Contact: Amy Bresnahan, Dominion Energy South Carolina, Inc., 220 Operation Way, Mail Code A221, Cayce, South Carolina 29033-3712; (803) 217-9965; email—Amy.Bresnahan@dominionenergy.com.

i. FERC Contact: Jeanne Edwards at (202) 502-6181; or email at jeanne.edwards@ferc.gov.

j. Deadline for filing scoping comments: July 27, 2024.

The Commission strongly encourages electronic filing. Please file motions to intervene and protests and requests for cooperating status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Stevens Creek Hydroelectric Project (P-2535-129).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Stevens Creek Project consists of these existing facilities: (1) a 2,400-acre reservoir with a storage capacity of 23,699-acre-feet at a full pond elevation of 187.5 feet National Geodetic Vertical Datum 1929 (NGVD29); (2) a dam consisting of, from the southern (Georgia) shore to the northern (South Carolina) shore; (a) a 388-foot-long powerhouse intake, integral with the dam, protected by trashracks with 3.75-inch clear bar spacing; (b) a 102.5-foot-long non-overflow section with a top elevation of 198.54 feet NGVD29; (c) an 85-foot-wide, 165.5-foot-long inoperable concrete gravity navigation lock, with a lock chamber that is 30-feet-wide, 150-feet-long, and has a 29-foot-lift, located between the powerhouse intake and spillway section, (d) a 1,000-foot-long, 5-foot-high flashboard section from the lock to the center of the spillway with a top elevation of 188.5 feet with the flashboards installed, (e) a 1,000-foot-long, 4-foot-high flashboard section from the center of the spillway to the South Carolina abutment with a top elevation of 187.5 feet with the flashboards installed; and (f) a 97-foot-long non-overflow section; (3) a 388-foot-long, 52-foot-wide, 57-foot-high three-story brick powerhouse, integral with the dam, containing eight vertical Francis generating units, each rated at 3,125 horsepower, for a total generating capacity of 17.28 megawatts, and a total hydraulic capacity of 8,300 cubic feet per second; (4) generator leads from the powerhouse to a switchyard located approximately 100 feet from the powerhouse; and (5) ancillary equipment.

The Stevens Creek Project operates as a re-regulating project, mitigating the downstream effects of the routinely wide-ranging discharges from the upstream U.S. Army Corps of Engineers J. Strom Thurmond hydroelectric project. The Stevens Creek reservoir normally fluctuates between an elevation of 183.0 feet NGVD29 and 187.5 feet NGVD29, using available storage capacity to re-regulate flows released from Thurmond Dam.

m. The application can be viewed on the Commission's website at https://www.ferc.gov using the “eLibrary” link. Enter the project's docket number, excluding the last three digits in the docket number field to access the document (P-2535). For assistance, contact FERC Online Support at FERCOnlineSupport@ferc.gov, or call (866) 208-3676 (toll-free) or (202) 502-8659 (TTY).

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued June 27, 2024.

Copies of SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 27, 2024.
Debbie-Anne A. Reese,
Acting Secretary.

[FR Doc. 2024-14669 Filed 7-2-24; 8:45 am]

BILLING CODE 6717-01-P